DEPARTMENT OF HEALTH AND HUMAN SERVICES

Centers for Disease Control and Prevention

[30Day-22-21EX]

Agency Forms Undergoing Paperwork Reduction Act Review

In accordance with the Paperwork Reduction Act of 1995, the Centers for Disease Control and Prevention (CDC) has submitted the information collection request titled “Baseline of Injury and Psychosocial Stress for Applied Behavior Analysis Workers” to the Office of Management and Budget (OMB) for review and approval. CDC previously published a “Proposed Data Collection Submitted for Public Comment and Recommendations” notice on May 7, 2021 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Baseline of Injury and Psychosocial Stress for Applied Behavior Analysis Workers—New—National Institute for Occupational Safety and Health (NIOSH), Centers for Disease Control and Prevention (CDC).

Background and Brief Description

As mandated in the Occupational Safety and Health Act of 1970 (Pub. L. 91-596), the mission of NIOSH is to conduct research and investigations on occupational safety and health. This project will focus on obtaining a better understanding of the injuries sustained and psychosocial stressors experienced by applied behavior analysis workers. Applied behavior analysis (ABA) is a principle intervention for increasing appropriate behaviors and decreasing inappropriate behaviors exhibited by children, adolescents, and adults with developmental disorders. As of August 2020, there were more than 120,000 ABA workers credentialed by the Behavior Analysis Certification Board. ABA workers, which include Board Certified Behavior Analysts and Registered Behavior Technicians, are responsible for planning and implementing behavior-focused treatments in schools, clinics, homes, and hospitals.

There is no current Standard Occupational Classification category for ABA workers. The absence of an occupational category means that estimates of injury among this group are based on statistics from existing occupational groups and anecdotal evidence from practitioners. ABA workers are in a variety of occupational categories, but they often have job duties that make many of their experiences in the workplace distinct from other types of workers in those occupational categories. Whereas other healthcare workers usually take steps to mitigate violence in their work, ABA workers are tasked with soliciting and then treating (i.e., confronting) disruptive behavior as part of behavioral treatments. In addition, ABA workers often spend more time with clients than other types of workers: 25-40 hours per week of direct-contact services is common for a client.

Some ABA workers are often in dangerous working environments, in homes and clinics, with clients who may sometimes behave unpredictably or aggressively. Despite these hazards and risks and despite the growing number of ABA workers nationally, there are no data on frequency and severity of injuries among this population of workers, and the only evidence is anecdotal in nature. The goal of the study is to collect data on the burden of work-related injuries among ABA workers to begin to fill the gaps in the research and obtain a better understanding of the hazards and risks they encounter.

This study consists of a one-time 10-minute survey targeted to credentialed ABA workers. Survey respondents will include individuals currently credentialed by the Behavior Analysis Certification Board. This includes registered behavior technicians, board certified assistant behavior analysts, board certified behavior analysts, and board-certified behavior analysts—doctoral. The survey consists of questions related to demographics, organizational safety climate, injuries, safety training, and burnout. A brief message and a link to complete the online survey will be sent by email. Based on previous research with internet surveys, we anticipate an approximate response rate of 10%. The etiologic approach will provide data to assess important characteristics of the population; guide control measures; serve as a quantitative basis to define objectives and specific priorities; and inform the designing, planning, and evaluation of future interventions.

CDC requests OMB approval for an estimated 4,000 annual burden hours. There are no costs to respondents other than their time to participate.

Estimated Annualized Burden Hours
Type of respondents | Form name | Number of respondents | Number of responses per respondent | Average burden per response (in hours)
Board Certified Behavior Analysts (BCBA, BCBA-D, and BCaBA) | Survey | 8,640 | 1 | 10/60
Registered Behavior Technicians (RBT) | Survey | 15,360 | 1 | 10/60

Jeffrey M. Zirger,
Lead, Information Collection Review Office, Office of Scientific Integrity, Office of Science, Centers for Disease Control and Prevention.

[FR Doc. 2022-13091 Filed 6-16-22; 8:45 am]

BILLING CODE 4163-18-P